FEDERAL COMMUNICATIONS COMMISSION

[OMB 3060-1263; FR ID 70086]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before April 5, 2022. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-1263.

Title: Sections 74.1203(a)(3), Interference, and 74.1204(f), Protection of FM broadcast, FM Translator and LP100 stations.

Form Number: N/A.

Type of Review: Extension of a currently approved collection.

Respondents: Business or other for-profit entities; Not-for-profit institutions; State, Local or Tribal Government.

Number of Respondents and Responses: 270 respondents; 270 responses.

Estimated Time per Response: 3-5 hours.

Frequency of Response: Third party disclosure requirement and on occasion reporting requirement.

Total Annual Burden: 1,080 hours.

Total Annual Cost: $924,100.

Obligation to Respond: Required to obtain or retain benefits. The statutory authority for this collection of information is contained in Sections 1, 4(i), 4(j), 301, 303, 307, 308, 309, 316, and 319 of the Communications Act, 47 U.S.C. 151, 154(i), 154(j), 301, 303, 307, 308, 309, 316, and 319.

Needs and Uses: On May 9, 2019, the Commission adopted a Report and Order, Amendment of Part 74 of the Commission's Rules Regarding FM Translator Interference, FCC 19-40, MB Docket No. 18-119 (FM Translator Interference Report and Order), adopting proposals to streamline the rules relating to interference caused by FM translators and to expedite the translator interference complaint resolution process. These measures are designed to limit or avoid protracted and contentious interference disputes, provide translator licensees additional investment certainty and flexibility to remediate interference, and provide affected stations earlier and expedited resolution of interference complaints. Under this new information collection, the following information collection requirements require OMB approval.

Specifically, the FM Translator Interference Report and Order pertains to this new Information Collection as it codifies the translator interference listener complaint requirements under section 74.1201(k) and sections 74.1203(a)(3) (actual interference) and 74.1204(f) (predicted interference) of the rules. The Commission defines the requirements for a listener complaint submitted with a translator interference claim in section 74.1201(k) as a complaint that is signed and dated by the listener and contains the following information: (1) The complainant's full name, address, and phone number; (2) a clear, concise, and accurate description of the location where the interference is alleged to occur; (3) a statement that the complainant listens to the desired station using an over-the-air signal at least twice a month, to demonstrate the complainant is a regular listener; and (4) a statement that the complainant has no legal, employment, financial, or familial affiliation or relationship with the desired station, to demonstrate the complainant is disinterested. Electronic signatures are acceptable for this purpose.

The FM Translator Interference Report and Order establishes a minimum number of listener complaints ranging from 6 to 25 depending on the population served within the protected contour of the complaining station. The Commission explains that a proportionate approach, which was supported by multiple commenters, would be fairer and more effective than a single minimum number for all complaining stations. In addition to the required minimum number of valid listener statements, a station submitting a translator interference claim package pursuant to either section 74.1203(a)(3) or 74.1204(f) must include: (1) A map plotting the specific locations of the alleged interference in relation to the 45 dBu contour of the complaining station; (2) a statement that the complaining station is operating within its licensed parameters; (3) a statement that the complaining station licensee has used commercially reasonable efforts to inform the relevant translator licensee of the claimed interference and attempted private resolution; and (4) U/D data demonstrating that at each listener location the ratio of undesired to desired signal strength exceeds -20 dB for co-channel situations, -6 dB for first-adjacent channel situations or 40 dB for second- or third-adjacent channel situations, calculated using the Commission's standard contour prediction methodology set out in Section 73.313.

In the FM Translator Interference Report and Order, the Commission outlines two paths for resolving interference if the translator decides to continue operation on its original channel. First, a translator operator may resolve each listener complaint by working with a willing listener to resolve reception issues. The translator operator must then document and certify that the desired station can now be heard on the listener's receiver, i.e., that the adjustment to or replacement of the listener's receiving equipment actually resolved the interference. Second, the translator operator may work with the complaining station to resolve station signal interference issues using rule-compliant suitable technical techniques. (The Commission provides flexibility to the parties to determine the testing parameters for demonstrating that the interference has been resolved, for example, the use of on-off testing or field strength measurements.) Once agreement is reached, the translator operator submits the agreed-upon remediation showing to the Commission.

Federal Communications Commission.
Marlene Dortch,
Secretary, Office of the Secretary.

[FR Doc. 2022-02326 Filed 2-3-22; 8:45 am]

BILLING CODE 6712-01-P